ENVIRONMENTAL PROTECTION AGENCY

[FRL-7097-8]

PRC Patterson Superfund Removal Site; Notice of Proposed Administrative Settlement Pursuant to the Comprehensive Environmental Response, Compensation, and Liability Act, As Amended by the Superfund Amendments and Reauthorization Act

AGENCY: Environmental Protection Agency.

ACTION: Notice, request for public comments.

SUMMARY: In accordance with section 122(i) of the Comprehensive Environmental Response, Compensation, and Liability Act, as amended by the Superfund Amendments and Reauthorization Action (“CERCLA”), 42 U.S.C. 9622(i), notice is hereby given of a proposed Administrative Order on Consent (“AOC,” Region 9 Docket No. 2001-08) pursuant to section 122(h) of CERCLA concerning the PRC PATTERSON SUPERFUND REMOVAL SITE (the “Site”), located in Patterson, California, and including an above ground bulk storage tank in Vernalis, California. The respondent to the AOC is the Atlantic Richfield Company (“ARCO”). Through the proposed AOC, ARCO will conduct the removal of wastes from the above ground bulk storage tank in Vernalis, California. The AOC provides ARCO with a covenant not to sue and contribution protection for the removal action at the Site. To date, EPA has incurred approximately $900,000.00 in response costs related to the Site. ARCO, as one of many generators of wastes at the Site, is reimbursing $500,001.00 of the incurred response costs to EPA. EPA anticipates recovery of all or a significant portion of the remaining costs from other potentially responsible parties at the Site. For thirty (30) days following the date of publication of this Notice, the Agency will receive written comments relating to the proposed AOC. The Agency's response to any comments received will be available for public inspection at EPA's Region IX offices, located at 75 Hawthorne Street, San Francisco, California 94105.

DATES: Comments must be submitted on or before December 5, 2001.

ADDRESSES: The proposed AOC may be obtained from Danielle Carr, Hearing Clerk, telephone (415) 744-1389. Comments regarding the proposed AOC should be addressed to Danielle Carr (ORC-3) at 75 Hawthorne Street, San Francisco, California 94105, and should reference the PRC Patterson Superfund Removal Site, and Region IX Docket No. 2001-08.

FOR FURTHER INFORMATION CONTACT: J. Andrew Helmlinger, Office of Regional Counsel, (415) 744-1325, U.S. Environmental Protection Agency, Region 9, 75 Hawthorne Street, San Francisco, CA 94105.

Dated: October 18, 2001.
Daniel A. Meer,
Acting Director, Superfund Division.

[FR Doc. 01-27727 Filed 11-2-01; 8:45 am]

BILLING CODE 6560-50-P